DEPARTMENT OF THE TREASURY

Office of Thrift Supervision

Proposed Agency Information Collection Activities; Comment Request—Fiduciary Powers of Federal Savings Associations

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on its proposal to revise this information collection.

DATES: Submit written comments on or before June 27, 2006.

ADDRESSES: Send comments, referring to the collection by title of the proposal or by OMB approval number, to Information Collection Comments, Chief Counsel's Office, Office of Thrift Supervision, 1700 G Street, NW., Washington, DC 20552; send a facsimile transmission to (202) 906-6518; or send an e-mail to infocollection.comments@ots.treas.gov. OTS will post comments and the related index on the OTS Internet Site at www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: You can request additional information about this proposed information collection revision from John R. Rudolph, Trust Policy Specialist, Office of Thrift Supervision, 1700 G Street, NW., Washington, DC 20552; send an e-mail to john.rudolph@ots.treas.gov; or telephone (202) 906-6153.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection.

Title of Proposal: Fiduciary Powers of Federal Savings Associations.

OMB Number: 1550-0037.

Form Number: OTS Form 1240.

Regulation requirement: 12 CFR 550.70(a), (b), and (c); 12 CFR 550.80 through 120; 12 CFR 550.125.

Description: OTS must know when a Federal savings association is acting in a fiduciary capacity in order to establish effective oversight of those activities. This comment request addresses revisions to OTS Form 1240—Application for Fiduciary Powers. The form is being revised to update the information OTS requires in order to make a determination whether to approve or deny an application for fiduciary powers.

12 CFR 550.70(a) requires that a Federal savings association that wants to conduct fiduciary activities for the first time, and for which OTS has not previously approved an application submitted under this part, must obtain prior approval from OTS before it may conduct the activities. 12 CFR 550.70(b) requires that a Federal savings association that wants to conduct fiduciary activities that are materially different from the activities that OTS has previously approved for it, including fiduciary activities that OTS has previously approved that have not been exercised for at least five years, must obtain prior approval from OTS before it may conduct the activities. 12 CFR 550.80 through 120 describe the process for obtaining OTS approval of the application for fiduciary powers. Instructions for filing the application are found at 12 CFR 516, subpart A.

In addition, § 550.70(c) of OTS's regulations requires that a federal savings association that wants to commence in a new state fiduciary activities that are not materially different from those that OTS has already approved, must file a notice with OTS. Instructions for filing the notice are found at 12 CFR 550.125.

Type of Review: Revision.

Affected Public: Federal savings associations.

Estimated Number of Respondents: Application—12 respondents; Notice—10 respondents.

Estimated Number of Responses: Application—12 respondents; Notice—10 respondents.

Estimated Burden Hours per Response: Application—27 hours; Notice—3 hours.

Estimated Frequency of Response: Event-generated.

Estimated Total Burden: 354 hours.

Clearance Officer: Marilyn K. Burton, (202) 906-6467, Office of Thrift Supervision, 1700 G Street, NW., Washington, DC 20552.

Dated: April 24, 2006.
Deborah Dakin,
Senior Deputy Chief Counsel, Regulations and Legislation Division.

[FR Doc. E6-6451 Filed 4-27-06; 8:45 am]

BILLING CODE 6720-01-P